ENVIRONMENTAL PROTECTION AGENCY

[ER-FRL-9044-9]

Environmental Impact Statements; Notice of Availability

Responsible Agency: Office of Federal Activities, General Information 202-564-5632 or https://www.epa.gov/nepa/.

Weekly receipt of Environmental Impact Statements

Filed 05/13/2019 Through 05/17/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190108, Draft, USFS, OR, Shasta Agness Landscape Restoration Project, Comment Period Ends: 07/09/2019, Contact: Anne Trapanese 541-560-3433.

EIS No. 20190109, Draft, USACE, OR, Detroit Dam Downstream Fish Passage and Temperature Control, Comment Period Ends: 07/23/2019, Contact: Kelly Janes 503-808-4510.

EIS No. 20190111, Draft Supplement, TVA, TN, Update of TVA's Natural Resource Plan, Comment Period Ends: 07/08/2019, Contact: Matthew Higdon 865-632-8051.

EIS No. 20190112, Draft, BLM, ID, Four Rivers Field Office Draft Resource Management Plan and Draft Environmental Impact Statement, Comment Period Ends: 08/22/2019, Contact: Pamela Murdock 208-384-3300.

EIS No. 20190113, Final, USFS, NM, Luna Restoration Project, Review Period Ends: 07/08/2019, Contact: Emily Irwin 575-773-4678.

EIS No. 20190114, Final, DOE, LA, ADOPTION—Plaquemines LNG and Gator Express Pipeline Project, Contact: Brian Lavoie 202-586.-2459.

The Department of Energy (DOE) has adopted the Federal Energy Regulatory Commission's Final EIS No. 20190091, filed 5/3/2019 with the EPA. DOE was a cooperating agency on this project. Therefore, recirculation of the document is not necessary under Section 1506.3(c) of the CEQ regulations.

EIS No. 20190115, Draft, BIA, CA, Campo Wind Energy Project with Boulder Brush Facilities, Comment Period Ends: 07/08/2019, Contact: Dan “Harold” Hall 916-978-6041.

Dated: May 20, 2019.
Robert Tomiak,
Director, Office of Federal Activities.

[FR Doc. 2019-10846 Filed 5-23-19; 8:45 am]

BILLING CODE 6560-50-P